DEPARTMENT OF THE INTERIOR

Minerals Management Service

Notice of Intent To Prepare an Environmental Impact Statement on Exploratory Drilling Activities in Federal Waters Offshore Santa Barbara County, California

AGENCY: Minerals Management Service, Interior.

ACTION: Notice of Intent (NOI) to prepare an Environmental Impact Statement and announcement of public scoping meetings.

SUMMARY: In accordance with section 102(2)(C) of the National Environmental Policy Act (42 U.S.C. 4321 et seq.), the Minerals Management Service (MMS) is preparing an Environmental Impact Statement (EIS) to identify and assess potential impacts and mitigation measures associated with multiple projects. The projects include the sequential drilling of 5-8 delineation wells from a single mobile offshore drilling unit on existing leases in Federal Outer Continental Shelf (OCS) waters in the Santa Maria Basin and western Santa Barbara Channel. Previously, 28 exploration wells have been drilled in the area where activities are proposed. The purpose of the proposed drilling is to further delineate oil and gas resources on leases or units that have previous commercial discoveries of oil and gas. Delineation wells are a type of exploration well. Notice is hereby given that the public scoping process has been initiated to prepare an EIS that will address the impacts of and alternatives to the proposal. The purpose of the scoping process is to solicit public comment regarding the full spectrum of issues and concerns, including a suitable range of alternatives, and the nature and extent of potential environmental impacts and appropriate mitigation measures that should be addressed in the EIS process. It is anticipated that a draft EIS will be available in Summer 2001.

FOR FURTHER INFORMATION: Questions concerning the draft EIS should be directed to Mr. Maurice Hill, Office of Environmental Evaluation, Pacific OCS Region, Minerals Management Service, 770 Paseo Camarillo, Camarillo, California 93010-6064; phone 805.389.7815.

Background

Pursuant to the OCS Lands Act, as amended, and the implementing regulations at 30 Code of Federal Regulations, § 250.203 (Exploration Plan), the MMS reviews Exploration Plans (EP's) and revisions to those EP's to decide whether those plans or revisions should be approved; should be modified to be consistent with the provisions of the lease, the OCS Lands Act, and the implementing regulations; or should be disapproved. To meet the agency's responsibilities under the National Environmental Policy Act (NEPA), MMS is preparing an EIS that will provide an assessment of the environmental effects of drilling 5-8 delineation wells offshore the Santa Barbara County coast in Federal waters.

Proposed Action

In accordance with 30 Code of Federal Regulations (CFR), § 250.110(a)(1) (Suspension of Production or Other Operations), the MMS approved the lease operator's requests for suspension of production or operations and established milestones for the operators to submit revisions to their existing EP's by September 2001. All of the leases on which drilling could occur have EP's that have been previously approved by the MMS and granted consistency by the California Coastal Commission (CCC) according to 15 CFR 930.79. The approved EP's identify proposed well locations that have received CCC consistency concurrence but, to date, have not been drilled. Because a number of years have elapsed since these approvals, the MMS has established milestones for the operators of the leases to update their previously approved EP's through revisions. The EIS will address all the proposed delineation drilling activities on several leases. The multi-project activities will be subject to existing laws, regulations, and other requirements. The activities include sequential drilling of 5-8 delineation wells by a single mobile offshore drilling unit. The operators need the information from these wells to identify oil and gas characteristics, reservoir characteristics, and reservoir extent in order to determine the location, size, and type of facilities that may be required to develop the resources and thus could be proposed at a future time.

The delineation drilling would occur on units where there have been commercial oil and gas discoveries, and where MMS believes that development could occur in the future. Therefore, the EIS will also include a discussion of the potential impacts of the buildout of production facilities as part of the cumulative analysis. The cumulative analysis will also cover other past, present, and reasonably foreseeable activities in the area of the proposed exploratory drilling. Subsequent to the delineation drilling, detailed Development and Production Plans (DPP's) would be prepared by the operators for the development of the leases in the future and are expected to be submitted to the MMS and subjected to separate NEPA analyses. The DPP's would also be submitted to the California Coastal Commission to ensure their consistency with the California Coastal Management Plan.

Alternatives

Alternatives will include (1) the action of drilling 5-8 delineation wells on undeveloped leases in the Santa Maria Basin and western Santa Barbara Channel, and (2) no action. Other possible alternatives that may be considered include variations on the proposed action and alternatives identified during the scoping process.

Scoping

Scoping is an open process for determining the scope of the EIS and for identifying significant issues related to the proposed action. Scoping also provides an opportunity to identify alternatives to the proposed action and appropriate mitigation measures. All interested persons, organizations and agencies wishing to provide comments, suggestions, or relevant information on the activities may do so as follows:

(1) Send input to Minerals Management Service, Attn: Exploratory Activities EIS, Office of Environmental Evaluation, 770 Paseo Camarillo, Camarillo, CA 93010-6064;

(2) Attend and provide comment at the public scoping meetings the MMS will conduct in Santa Barbara County as follows: (a) December 6, 2000, 5:30 p.m.-9:00 p.m. at Fess Parker's DoubleTree Resort, 633 East Cabrillo Blvd., Sierra Madre Room, Santa Barbara, California; (b) January 22, 2001, 5:30 p.m.-9:00 p.m. at Allan Hancock College, Marian Theatre, Bldg. D, 800 S. College Drive, Santa Maria, California. Further details of the meetings will be posted on the MMS, Pacific Region, homepage at http://www.mms.gov/omm/pacific and will be advertised in the local media; and

(3) Email input to ExplorationEIS@mms.gov.

A Notice of Availability of the draft EIS for public review and comment will be announced by the MMS and the Environmental Protection Agency in the Federal Register; on the MMS, Pacific Region, homepage; and in the local media. We anticipate that a draft EIS will be available for review in Summer 2001, and a final EIS will be completed in Fall 2001. Public hearings will be held in the local area following release of the draft EIS. Dates and locations are to be determined.

Dated: November 17, 2000.
Carolita U. Kallaur,
Associate Director, Offshore Minerals Management.

[FR Doc. 00-29921 Filed 11-21-00; 8:45 am]

BILLING CODE 4310-MR-P